ENVIRONMENTAL PROTECTION AGENCY

[ER-FRL-9028-7]

Environmental Impact Statements; Notice of Availability

RESPONSIBLE AGENCY: Office of Federal Activities, General Information (202) 564-7146 or http://www.epa.gov/nepa.

Weekly receipt of Environmental Impact Statements

Filed 08/15/2016 Through 08/19/2016

Pursuant to 40 CFR 1506.9.

Notice

Section 309(a) of the Clean Air Act requires that EPA make public its comments on EISs issued by other Federal agencies. EPA's comment letters on EISs are available at: http://www.epa.gov/compliance/nepa/eisdata.html.

EIS No. 20160188, Final, NHTSA, NAT, Phase 2 Fuel Efficiency Standards for Medium- and Heavy-Duty Engines and Vehicles, Review Period Ends: 09/26/2016, Contact: James Tamm 202-493-0515

EIS No. 20160189, Final, BLM, WY, Sheep Mountain Uranium Project, Review Period Ends: 09/26/2016, Contact: Tom Sunderland 307-332-8400

EIS No. 20160190, Draft, NMFS, OR, Analyze Impacts of NOAA's National Marine Fisheries Service Proposed Approval of the Continued Operation of 10 Hatchery Facilities for Trout, Salmon, and Steelhead Along the Oregon Coast, as Described in Oregon Department of Fish and Wildlife Hatchery and Genetic Management Plans Pursuant to Section 4(d) of the Endangered Species Act, Comment Period Ends: 10/26/2016, Contact: Lance Kruzic 541-957-3381

EIS No. 20160191, Draft, NOAA, HI, Enhancing Protections for Hawaiian Spinner Dolphins to Prevent Disturbance, Comment Period Ends: 10/24/2016, Contact: Susan Pultz 808-725-5150

EIS No. 20160192, Draft Supplement, USN, Other, Surveillance Towed Array Sensor System Low Frequency Active (SURTASS LFA) Sonar, Comment Period Ends: 10/11/2016, Contact: LCDR Mark Murnane 703-695-2866

Dated: August 23, 2016.
Dawn Roberts,
Management Analyst, NEPA Compliance Division, Office of Federal Activities.

[FR Doc. 2016-20537 Filed 8-25-16; 8:45 am]

BILLING CODE 6560-50-P